ENVIRONMENTAL PROTECTION AGENCY

[EPA-HQ-OPP-2009-0263; FRL-8427-1]

Notice of Receipt of Several Pesticide Petitions Filed for Residues of Pesticide Chemicals in or on Various Commodities; Correction

AGENCY: Environmental Protection Agency (EPA).

ACTION: Notice; correction.

SUMMARY: EPA issued a notice of receipt of several pesticide petitions filed for residues of pesticide chemicals in or on various commodities in the Federal Register of Wednesday, June 10, 2009. This document is being issued to correct item 5, PP 9F7537, under the “New Tolerance” section (EPA-HQ-OPP-2009-0263).

FOR FURTHER INFORMATION CONTACT: Rita Kumar, Registration Division, Mail Code (7505P), Office of Pesticide Programs, Environmental Protection Agency, 1200 Pennsylvania Ave., NW., Washington, DC 20460-0001; telephone number: (703) 308-8291; e-mail address: kumar.rita@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

1. Docket. EPA has established a docket for this action under docket identification (ID) number EPA-HQ-OPP-2009-0263 publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Does this Correction Do?

FR Doc. E9-13161 published in the Federal Register of Wednesday, June 10, 2009 (74 FR 27540) (FRL-8417-7) is corrected as follows:

1. On page 27540-27541, under item 5. PP 9F7537. (EPA-HQ-OPP-2009-0263), add “papaya at 1.5 ppm” after the entry for “white sapote at 1.5 ppm;” to list of commodities on page 27541.

List of Subjects

Environmental protection, Agricultural commodities, Feed additives, Food additives, Pesticides and pests, Reporting and recordkeeping requirements.

Dated: July 21, 2009.
G. Jeffrey Herndon,
Acting Director, Registration Division, Office of Pesticide Programs.

[FR Doc. E9-19645 Filed 8-20-09; 8:45 am]

BILLING CODE 6560-50-S